DEPARTMENT OF TRANSPORTATION

Federal Transit Administration

Preparation of an Environmental Impact Statement for the Berkeley/Albany Ferry Terminal Project in the Cities of Berkeley and Albany, California

AGENCY: U.S. Department of Transportation (DOT), Federal Transit Administration (FTA).

ACTION: Notice of Intent (NOI) to prepare an Environmental Impact Statement (EIS).

SUMMARY: The Federal Transit Administration and the San Francisco Bay Water Transit Authority (WTA) are planning to prepare an Environmental Impact Statement (EIS) for the proposed construction of a ferry terminal along the Berkeley/Albany waterfront that would link the San Francisco Ferry Terminal with communities in the East Bay. The project would serve commuters, visitors, and recreational users who desire an alternative way to cross San Francisco Bay to access nearby employment, entertainment, and recreational destinations. The EIS will be prepared in accordance with section 102(2)C of the National Environmental Policy Act of 1969 (NEPA) and pursuant to the Council on the Environmental Quality's regulations (40 CFR parts 1500-08) as well as provisions of the recently enacted Safe, Accountable, Flexible Efficient Transportation Equity Act: A Legacy for Users. (SAFETEA-LU). The purpose of this Notice of Intent (NOI) is to alert interested parties regarding the plan to prepare an EIS, to provide information on the proposed transit project, to invite participation in the EIS process, including comments on the scope of the EIS proposed in this notice, and to announce public scoping meetings will be conducted.

DATES: Written comments on the scope of the EIS should be sent to John Sindzinski, WTA Project Manager, by March 30, 2007. Public scoping meetings will be held on March 8, 2007, and March 15, 2007, from 6:30 pm to 8:30 pm at locations indicated under the heading ADDRESSES below. An interagency scoping meeting for agencies with interest in the project will be held on March 7 from 1:30 pm to 3:30 pm at the South Berkeley Senior Center, 2939 Ellis Street, Berkeley, California.

ADDRESSES: Written comments on the scope of the EIS should be sent to John Sindzinski, Project Manager, San Francisco Bay Water Transit Authority, Pier 9, Suite 111, The Embarcadero, San Francisco, CA 94111. Comments may also be offered at the public scoping meetings. The addresses for the public scoping meetings are as follows:

Albany Location (March 15)

Albany City Hall, 1000 San Pablo Avenue, Albany, California.

Berkeley Location (March 8)

North Berkeley Senior Center, 1901 Hearst Avenue, Berkeley, California.

The meeting will be accessible to persons with disabilities. If special translation or signing services or other special accommodations are needed, please contact Delphine Henri at (415) 274-1821 at least 48 hours before the meeting. A scoping information packet is available on the Water Transit Authority Web site at http://www.watertransit.org or by calling Delphine Henri (415) 274-1821. Copies will also be available at the scoping meetings.

FOR FURTHER INFORMATION CONTACT: Alex Smith, Community Planner, Federal Transit Administration, San Francisco Regional Office at (415) 744-2599.

SUPPLEMENTARY INFORMATION: The Proposed Project: The project would initiate ferry service between the East Bay communities of Berkeley/Albany and the San Francisco Ferry Terminal administered by the WTA. Service would operate during the day and evenings, including Saturdays and Sundays, at headways that would reflect the travel demand for commute and non-commute periods. Depending on the Berkeley/Albany terminal site selected, one-way travel times would range from approximately 30 and 45 minutes. The project would involve constructing a new ferry docking facility; passenger ticketing and sheltered waiting area on the pier; car and bike parking; bus boarding; and provision for pedestrian, bicycle and traffic circulation at a location along the Berkeley/Albany waterfront. Dredging would be conducted to allow ferry vessels access to the terminal site. In San Francisco, existing San Francisco Ferry Terminal facilities would be utilized for this new service and would not require modification.

Purpose and Need for the Proposed Project: In July 2003, the WTA finalized the Implementation and Operations Plan (IOP) to expand ferry service throughout San Francisco Bay. The IOP included ferry service between San Francisco and Berkeley/Albany as an element of a regional ferry network. Regional Measure 2, approved by local voters in March 2, 2004, earmarked funds for developing a comprehensive strategy to address congestion on Transbay corridors. The San Francisco to Berkeley/Albany ferry service was designated as a priority transportation project in carrying out this strategy. The project would:

• Provide an alternative mode of transportation that would encourage automobile users to forego traveling by car across the Bay Bridge, thus reducing congestion on the Bay Bridge

• Provide additional Transbay capacity to existing BART and AC Transit services

• Provide an alternative way of crossing the Bay during regional emergencies

• Provide direct access for San Francisco residents to the Eastshore State Park and other activity centers in the Berkeley/Albany area

• Provide direct access for East Bay residents to employment and activity centers along and near the San Francisco waterfront

Alternatives: A study of potential ferry terminal sites in the Berkeley/Albany area was completed by the WTA in July 2006. The Berkeley/Albany Ferry Terminal Study is available on the Water Transit Authority Web site at http://www.watertransit.org. On July 27, 2006, four sites were approved by the WTA Board to be carried forward as alternatives for further review and environmental analysis in the EIS. In addition to the No Build alternative, four Build alternatives are being considered in the EIS as described below.

1. No Build Alternative: This alternative would continue the existing transit services connecting the East Bay communities of Berkeley/Albany with San Francisco without implementing ferry service. Programmed bus and rail transit improvements between the East Bay and San Francisco identified in the Regional Transportation Plan would be implemented as part of the No Build alternative. This alternative serves as the baseline against which the environmental effects of the other alternatives are measured.

2. Alternative A—Berkeley Marina Site. This alternative would include a new terminal and docking facilities at the Doubletree Hotel along the eastern end of the Berkeley Marina for a WTA ferry terminal site. Hornblower operation, currently using the existing dock, also would be accommodated in the design. Access to the site would be provided via the western extension of University Avenue and Marina Boulevard. Parking, passenger drop-off and bus boarding would be accommodated in the existing parking areas surrounding the Doubletree Hotel.

3. Alternative B—Berkeley Fishing Pier Site. This alternative would include a new ferry terminal located south of the existing fishing pier near Hs Lordships restaurant. Access to the site would be provided via the western extension of University Avenue. The existing parking areas in the vicinity of Hs Lordships and Skates would be designed to accommodate ferry parking, passenger drop-off, and bus boarding.

4. Alternative C—Gilman Street Site. This alternative would locate a new ferry terminal in the general vicinity of the western end of Gilman Street adjacent to the existing Golden Gate horse facilities, which would need to be relocated to accommodate ferry parking, passenger drop-off and bus boarding. Access to the site would be provided via Gilman Street and would avoid conflicting with the City of Berkeley's Gilman Street Recreation facilities, currently under construction immediately west of I-80.

5. Alternative D—Buchanan Street site. This alternative would locate a new ferry terminal south of the Albany Bulb and at the northern end of Golden Gate Field near the old pier. Access to the site would be provided via Buchanan Street. A portion of the existing Golden Gate Field parking area would be used for ferry parking, passenger drop-off and bus boarding.

The EIS Process and the Role of Participating Agencies and the Public: The purpose of the EIS process is to explore in a public setting potentially significant effects of implementing the proposed action and alternatives on the physical, human, and natural environment. Areas of investigation include, but are not limited to, land use, environmental justice, historic resources, visual and aesthetic qualities, air quality, noise and vibration, energy use, traffic, safety and security, wetlands, threatened and endangered species, and hazardous materials. Measures to avoid, minimize, or mitigate any significant adverse impacts will be identified. Regulations implementing NEPA, as well as provisions of the recently enacted Safe, Accountable, Flexible, Efficient Transportation Equity Act: A Legacy for Users (SAFETEA-LU), call for public involvement in the EIS process. Section 6002 of SAFETEA-LU requires that FTA and PCJPB do the following: (1) Extend an invitation to other Federal and non-Federal agencies and Indian tribes that may have an interest in the proposed project to become “participating agencies”, (2) Provide an opportunity for involvement by participating agencies and the public in helping to define the purpose and need for a proposed project, as well as the range of alternatives for consideration in the impact statement, and (3) Establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify, at the earliest opportunity, the Environmental Manager identified above under ADDRESSES. A comprehensive public involvement program has been developed. The program includes a public scoping process, public hearings on release of the Draft Environmental Impact Statement (DEIS), development of project newsletters and their distribution and posting on the project Web site (http://www.watertransit.org). We invite the public and participating agencies to consider the preliminary statement of purposes of and need for the proposed project, as well as the alternatives proposed for consideration, and the public is welcome to use the public scoping process to further define the issues of concern among all parties interested in the project. Comments on potential significant environmental impacts that may be associated with the proposed project are also welcomed. All comments and suggestions will be given serious consideration. The purposes of and need for the proposed project have been preliminarily identified in this notice. We invite the public and participating agencies to consider the preliminary statement of purposes of and need for the proposed project, as well as the alternatives proposed for consideration. Suggestions for modifications to the statement of purposes of and need for the proposed project and any other alternatives that meet the purposes of and need for the proposed project are welcomed and will be given serious consideration. Comments on potentially significant environmental impacts that may be associated with the proposed project and alternatives are also welcomed. There will be additional opportunities to participate in the scoping process at the public meetings announced in this notice.

In accordance with 23 CFR 771.105(a) and 771.133, FTA will comply with all Federal environmental laws, regulations and executive orders applicable to the proposed project during the environmental review process to the maximum extent practicable. These requirements include, but are not limited to, the regulations of the Council on Environmental Quality implementing NEPA (40 CFR parts 1500-1508 and 23 CFR part 771), the project-level air quality conformity regulation of the U.S. Environmental Protection Agency (EPA) (40 CFR part 93), section 404(b)(1) guidelines of EPA (40 CFR part 230), Executive Orders 11988, 11990 and 12898 regarding floodplains, wetlands, and environmental justice, respectively, Section 106 of the National Historic Preservation Act (36 CFR Part 800), Section 7 of the Endangered Species Act (50 CFR part 402), and section 4(f) of the Department of Transportation Act (23 CFR 771.135).

Issued On: February 5, 2007.
Leslie T. Rogers,
Regional Administrator, FTA, Region 9.

[FR Doc. E7-2246 Filed 2-9-07; 8:45 am]

BILLING CODE 4910-57-P